DEFENSE NUCLEAR FACILITIES SAFETY BOARD

Sunshine Act Notice

AGENCY: Defense Nuclear Facilities Safety Board.

ACTION: Hearing and meeting notice; correction.

SUMMARY: The Defense Nuclear Facilities Safety Board (Board) published a notice in the Federal Register of July 27, 2015, (80 FR 44335), concerning a two-session public hearing and meeting on August 26, 2015, at the Three Rivers Convention Center, 7016 West Grandridge Boulevard, Kennewick, Washington 99352. The Board amends that notice as set forth below to postpone the Session II open meeting and supplement the Session I hearing.

CONTACT PERSON FOR MORE INFORMATION: Mark Welch, General Manager, Defense Nuclear Facilities Safety Board, 625 Indiana Avenue NW., Suite 700, Washington, DC 20004-2901, (800) 788-4016. This is a toll-free number.

Correction

In the Federal Register of July 27, 2015, in FR Doc. 2015-18405, on page 44335, correct the notice by postponing the Session II open meeting portion of the proceeding due to the health reasons of a Board Member. It is expected the Session II open meeting will be rescheduled and separately noticed at some point in the future. The Session I hearing portion of the proceeding will proceed as originally scheduled to convene at 5:00 p.m. in accordance with a revised agenda. The July 25, 2015, notice should be supplemented in the “Matters To Be Considered” section, in the second column, beginning on line 16, after the word “progress.”, with the following additional information from the revised agenda concerning the hearing portion of the proceeding: “The Board will then receive testimony from a senior Board technical staff employee concerning the Board staff's perspective on the status of DOE's execution of the Implementation Plan for Board Recommendation 2011-1, corrective actions taken in response to Board Recommendation 2011-1 at WTP, and the results from the extent of condition reviews conducted by DOE.”

Dated: August 25, 2015.
Joyce L. Connery,
Chairman.

[FR Doc. 2015-21411 Filed 8-26-15; 11:15 am]

BILLING CODE 3670-01-P